DEPARTMENT OF ENERGY

Federal Energy Regulatory Commission

Combined Notice of Filings #1

Take notice that the Commission received the following exempt wholesale generator filings:

Docket Numbers: EG23-298-000.

Applicants: Sky Ranch Solar, LLC.

Description: Sky Ranch Solar, LLC submits Notice of Self-Certification of Exempt Wholesale Generator Status.

Filed Date: 9/19/23.

Accession Number: 20230919-5120.

Comment Date: 5 p.m. ET 10/10/23.

Docket Numbers: EG23-299-000.

Applicants: Hardin Solar Energy II LLC.

Description: Hardin Solar Energy II LLC submits Notice of Self-Certification of Exempt Generator Status.

Filed Date: 9/20/23.

Accession Number: 20230920-5098.

Comment Date: 5 p.m. ET 10/11/23.

Take notice that the Commission received the following Complaints and Compliance filings in EL Dockets:

Docket Numbers: EL23-99-000.

Applicants: City of Corona, California v. California Independent System Operator Corporation.

Description: Complaint of City of Corona, California v. California Independent System Operator Corporation.

Filed Date: 9/19/23.

Accession Number: 20230919-5119.

Comment Date: 5 p.m. ET 10/10/23.

Take notice that the Commission received the following electric rate filings:

Docket Numbers: ER23-2816-001.

Applicants: Rocket Solar, LLC.

Description: Tariff Amendment: Amendment to Market-Based Rate Application to be effective 11/12/2023.

Filed Date: 9/20/23.

Accession Number: 20230920-5104.

Comment Date: 5 p.m. ET 10/11/23.

Docket Numbers: ER23-2894-000.

Applicants: Southwest Power Pool, Inc.

Description: § 205(d) Rate Filing: 4022 Cheyenne Light, Fuel and Power Co WEIS Market Part. Agr to be effective9/1/2023.

Filed Date: 9/20/23.

Accession Number: 20230920-5018.

Comment Date: 5 p.m. ET 10/11/23.

Docket Numbers: ER23-2895-000.

Applicants: Hardin Solar Energy II LLC.

Description: Baseline eTariff Filing: Application for Market-Based Rate Authorization to be effective 11/20/2023.

Filed Date: 9/20/23.

Accession Number: 20230920-5078.

Comment Date: 5 p.m. ET 10/11/23.

Docket Numbers: ER23-2896-000.

Applicants: Pennsylvania Electric Company, PJM Interconnection, L.L.C.

Description: § 205(d) Rate Filing: Pennsylvania Electric Company submits tariff filing per 35.13(a)(2)(iii: Penelec amends 10 ECSAs (5388 5393 5394 5396 5397 5398 5399 5400 5404 5405) to be effective 12/31/9998.

Filed Date: 9/20/23.

Accession Number: 20230920-5113.

Comment Date: 5 p.m. ET 10/11/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 20, 2023.
Debbie-Anne A. Reese,
Deputy Secretary.

[FR Doc. 2023-20889 Filed 9-25-23; 8:45 am]

BILLING CODE 6717-01-P